DEPARTMENT OF JUSTICE

Antitrust Division

Notice Pursuant to the National Cooperative Research and Production Act of 1993—Naval Surface Technology & Innovation

Notice is hereby given that, on July 9, 2025, pursuant to section 6(a) of the National Cooperative Research and Production Act of 1993, 15 U.S.C. 4301 et seq. (“the Act”), Naval Surface Technology & Innovation (“NSTIC”) has filed written notifications simultaneously with the Attorney General and the Federal Trade Commission disclosing changes in its membership. The notifications were filed for the purpose of extending the Act's provisions limiting the recovery of antitrust plaintiffs to actual damages under specified circumstances. Specifically, AEV Limited LLC, Hyattsville, MD; Banduri LLC, Houston, TX; Bascom Hunter Technologies, Inc., Cleveland, OH; Birdon America, Inc., Fredericksburg, VA; Blash LLC, Baton Rouge, LA; Blue Water Autonomy, Denver, CO; Camgian Corp., Ashland, OH; CDW Government LLC, Brookline, MA; Chaos 1, Inc., Starkville, MS; Clark Dynamic Test Laboratory, Inc., Vernon Hills, IL; Cloudera Government Solutions, Inc., Hawthorne, CA; Cornet Technology, Inc., Springfield, VA; C-Star Solutions LLC, Jefferson Hills, PA; Daniel H. Wagner Associates, Inc., McLean, VA; Defense Operations & Execution Solutions, Inc., Gordonsville, VA; Discovery Machine, Inc., Hampton, VA; Ensemble Government Services LLC, W Melbourne, FL; Fregata Systems LLC, Williamsport, PA; Giner, Inc., St Louis, MO; Greymatter.io, Inc., Newton, MA; IEC Infrared Systems LLC, Arlington, VA; Imagine One Technology & Management, Ltd., Middleburg Heights, OH; Intalus, Inc., Lexington Park, MD; Joint Tactics and Technologies LLC, Ashburn, VA; Katz Water Technologies, Inc., Coronado, CA; Kestrel Intelligence, Inc., Boise, ID; Kitware, Inc., Clifton Park, NY; KMS Solutions LLC, Alexandria, VA; Magee Technologies LLC, California, MD; Maxentric Technologies LLC, Fort Lee, NJ; Maximus Federal Services, Inc., McLean, VA; ObjectSecurity LLC, San Diego, CA; Ocean Power Technologies, Inc., Monroe Township, NJ; Office Remedies, Inc., Herndon, VA; Ohio Semitronics, Inc., Hilliard, OH; Oneida Technology Services LLC, Milwaukee, WI; P E Systems, Inc., Fairfax, VA; Perrarus Solutions, Inc., Newport News, VA; Qualtech Systems, Inc., Rocky Hill, CT; Quantum Research Sciences, Lafayette, IN; RavenTek Solution Partners LLC, Ashburn, VA; Safran Defense & Space, Inc., Bedford, NH; Science Systems and Applications, Inc., Lanham, MD; SCIX3 LLC, Alexandria, VA; SeaTrac Systems, Inc., Marblehead, MA; Significance, Inc., Annapolis, MD; StartGuides LLC, Western Springs, IL; Systel, Inc., Sugar Land, TX; Ubihere, Inc., Hilliard, OH; Virtualitics, Pasadena, CA; Walaris LLC, Peachtree Corners, GA; Wind River Systems, Inc., Alameda, CA; Worlds Enterprises, Inc., Plano, TX; Electronics Development Corp., Columbia, MD; and Voxtel, Inc., Beaverton, OR, have withdrawn as parties to this venture.

No other changes have been made in either the membership or planned activity of the group research project. Membership in this group research project remains open, and NSTIC intends to file additional written notifications disclosing all changes in membership.

On October 8, 2019, NSTIC filed its original notification pursuant to section 6(a) of the Act. The Department of Justice published a notice in the Federal Register pursuant to section 6(b) of the Act on November 12, 2019 (84 FR 61071).

The last notification was filed with the Department on April 9, 2025. A notice was published in the Federal Register pursuant to section 6(b) of the Act on June 11, 2025 (90 FR 24667).

Suzanne Morris,
Deputy Director Civil Enforcement Operations, Antitrust Division.

[FR Doc. 2025-15575 Filed 8-14-25; 8:45 am]

BILLING CODE P